DEPARTMENT OF COMMERCE

International Trade Administration

[A-533-808]

Stainless Steel Wire Rod from India: Extension of Time Limit for the Preliminary Results of the Antidumping Duty Administrative Review

AGENCY: Import Administration, International Trade Administration, Department of Commerce.

ACTION: Notice of extension of time limit for the preliminary results of antidumping duty administrative review.

EFFECTIVE DATE: August 5, 2003.

SUMMARY: The Department of Commerce (“the Department”) is extending the time limit for the final results of the review of stainless steel wire rod from India. This review covers the period December 1, 2001 through November 30, 2002.

FOR FURTHER INFORMATION CONTACT: Kit Rudd, Eugene Degnan, or Jonathan Herzog, AD/CVD Enforcement, Group III, Office 9, Import Administration, International Trade Administration, U.S. Department of Commerce, 14th Street and Constitution Avenue, NW., Washington DC 20230; telephone: (202) 482-1385, (202) 482-0414 and (202) 482-4271 respectively.

Background

On January 22, 2003, the Department published a notice of initiation of a review of Stainless Steel Wire Rod (“SSWR”) from India covering the period December 1, 2001 through November 30, 2002. See Initiation of Antidumping and Countervailing Duty Administrative Reviews and Request for Revocation in Part: 68 FR 3009 (January 22, 2003).

Extension of Time Limit of Preliminary Results

Section 751(a)(3)(A) of the Act states that if it is not practicable to complete the review within the time specified, the administering authority may extend the 245-day period to issue its preliminary results by up to 120 days. Completion of the preliminary results of this review within the 245-day period is not practicable for the following reasons:

• The review involves three companies, all including sales and cost investigations which require the Department to gather and analyze a significant amount of information pertaining to each company's sales practices, manufacturing costs and corporate relationships.

• Additionally, responses from the three companies required the Department to issue multiple supplemental questionnaires which further delayed the planned verification schedules.

Therefore, in accordance with section 751(a)(3)(A) of the Act, we are extending the time period for issuing the preliminary results of review by 90 days until December 1, 2003. The final results continue to be due 120 days after the publication of the preliminary results.

Dated: July 30, 2003.
Barbara E. Tillman,
Acting Deputy Assistant Secretary for Import Administration, Group III.

[FR Doc. 03-19912 Filed 8-4-03; 8:45 am]

BILLING CODE 3510-DS-P